DEPARTMENT OF HEALTH AND HUMAN SERVICES

Centers for Disease Control and Prevention

Advisory Committee on Breast Cancer in Young Women (ACBCYW)

Correction

The notice for this August 11, 2014 meeting was published in the Federal Register on July 15, 2014, Volume 79, Number 135, Page 41289. Due to unforeseen technological issues, the previously published Web access has been changed. This change occurred too close to the meeting date for CDC to be able to provide advance notification to the public. The revised web access information and link were posted on the committee Web site in advance of the meeting; and the information was announced during the meeting for members of the public who joined the meeting by phone.

For additional information on ACBCYW please visit the ACBCYW site: http://www.cdc.gov/cancer/breast/what_cdc_is_doing/young_women.htm

Contact Person for More Information: Temeika L. Fairley, Ph.D., Designated Federal Officer, National Center for Chronic Disease Prevention and Health Promotion, CDC, 5770 Buford Highway, NE., Mailstop F76, Atlanta, Georgia 30341, Telephone (770) 488-4518, Fax (770) 488-4760, Email: acbcyw@cdc.gov

The Director, Management Analysis and Services Office, has been delegated the authority to sign Federal Register notices pertaining to announcements of meetings and other committee management activities for both the Centers for Disease Control and Prevention and the Agency for Toxic Substances and Disease Registry.

Gary J. Johnson,
Acting Director, Management Analysis and Services Office, Centers for Disease Control and Prevention.

[FR Doc. 2014-19202 Filed 8-13-14; 8:45 am]

BILLING CODE 4163-18-P